DEPARTMENT OF COMMERCE

International Trade Administration

District Export Council Nomination Opportunity

AGENCY: International Trade Administration, Department of Commerce.

ACTION: Notice of Opportunity for Appointment to serve as a District Export Council Member on the Central California District Export Council.

SUMMARY: The Department of Commerce is currently seeking nominations of individuals for consideration for up to 35 appointments by the Secretary of Commerce to serve as members of a new Central California District Export Council (CenCal DEC). The CenCal DEC is closely affiliated with the Fresno and Bakersfield U.S. Export Assistance Centers (USEACs) of the U.S. and Foreign Commercial Service (US&FCS), and will play a key role in the planning and coordination of export activities in Central California communities. As representatives of the local exporting community, DEC Members must reside in, or conduct the majority of their work in, the territory that the DEC covers which includes the counties of Fresno, Inyo, Kern, Kings, Madera, Mariposa, Merced, Mono, San Luis Obispo, Stanislaus, Tulare, Tuolumne, and surrounding areas.

DATES: Nominations must be submitted by 5:00 p.m. PDT on August 17, 2018.

ADDRESSES: Contact Glen Roberts, the Director of the Fresno USEAC at (559) 348-9859 or Glen.Roberts@Trade.gov for information on how to submit your nomination on-line.

FOR FURTHER INFORMATION CONTACT: Please contact Glen Roberts, the Director of the Fresno USEAC at (559) 348-9859 or Glen.Roberts@Trade.gov for more information on the CenCal DEC and the nomination process. For general program information, contact Laura Barmby, National DEC Liaison, U.S. & Foreign Commercial Service, at (202) 482-2675.

SUPPLEMENTARY INFORMATION: District Export Councils support the mission of US&FCS by facilitating the development of an effective local export assistance network, supporting the expansion of export opportunities for local U.S. companies, serving as a communication link between the business community and US&FCS, and assisting in coordinating the activities of trade assistance partners to leverage available resources. Individuals appointed to a DEC become part of a select corps of trade experts dedicated to providing international trade leadership and guidance to the local business community and assistance to the Department of Commerce on export development issues.

Nomination Process: Each DEC has a maximum membership of 35 appointed to staggered four-year terms. Because the CenCal DEC will be a new DEC, up to 17 members will be appointed from the date of appointment until December 31, 2019, and up to 18 individuals will be appointed from the date of appointment until December 31, 2021. All potential nominees must complete an online nomination form and consent, if appointed, to sharing of their contact information with the National Association of District Export Councils; trade and industry associations; and with Federal, State, and local government agencies with an interest in trade.

Eligibility and Appointment Criteria: Appointment is based upon an individual's international trade leadership in the local community, ability to influence the local environment for exporting, knowledge of day-to-day international operations, interest in export development, and willingness and ability to devote time to DEC activities. Members must be employed as exporters or export service providers or in a profession which supports U.S. export promotion efforts. Members include exporters, export service providers and others whose profession supports U.S. export promotion efforts. DEC member appointments are made without regard to political affiliation. DEC membership is open to U.S. citizens and permanent residents of the United States. As representatives of the local exporting community, DEC Members must reside in, or conduct the majority of their work in, the territory that the DEC covers. DEC membership is not open to federal government employees, or individuals representing foreign governments, including individuals registered with the Department of Justice under the Foreign Agents Registration Act.

Selection Process: Nominations of individuals who have applied for DEC membership will be forwarded to the Fresno USEAC Director for consideration. The Fresno USEAC Director ensures that all nominees meet the membership criteria outlined below. The Fresno USEAC Director then evaluates all nominations to determine their interest, commitment, and qualifications. In reviewing nominations, the Fresno USEAC Director strives to ensure a balance among exporters from a manufacturing or service industry and export service providers. A fair representation should be considered from companies and organizations that support exporters, representatives of local and state government, and trade organizations and associations. Membership should reflect the diversity of the local business community, encompass a broad range of businesses and industry sectors, and be distributed geographically across the DEC service area.

The Executive Secretary determines which nominees to forward to the US&FCS Office of U.S. Operations for further consideration for recommendation to the Secretary of Commerce. A candidate's background and character are pertinent to determining suitability and eligibility for DEC membership. Since DEC appointments are made by the Secretary, the Department must make a suitability determination for all DEC nominees. After completion of a vetting process, the Secretary selects nominees for appointment to local DECs. DEC members are appointed by and serve at the pleasure of the Secretary of Commerce.

Authority: 15 U.S.C. 1512, 15 U.S.C. 4721.

Anthony Diaz,
Program Analyst, Global Markets, International Trade Administration.

[FR Doc. 2018-16741 Filed 8-3-18; 8:45 am]

BILLING CODE 3510-FP-P